DEPARTMENT OF THE INTERIOR

Fish and Wildlife Service

[FWS-R1-ES-2012-N051; 1265-0000-10137-S3]

Grays Lake National Wildlife Refuge, Caribou and Bonneville Counties, ID; Comprehensive Conservation Plan and Environmental Impact Statement

AGENCY: Fish and Wildlife Service, Interior.

ACTION: Notice of intent; request for comments.

SUMMARY: We, the U.S. Fish and Wildlife Service (Service), intend to prepare a comprehensive conservation plan (CCP) for Grays Lake National Wildlife Refuge (refuge, NWR). An Environmental Impact Statement (EIS) evaluating effects of various CCP alternatives will also be prepared. We provide this notice in compliance with the National Environmental Policy Act and our CCP policy to advise other Federal and State agencies, Tribes, and the public of our intentions, and to obtain suggestions and information on the scope of issues to consider in the planning process. We are also requesting public comments.

DATES: To ensure consideration, we must receive your written comments by August 21, 2012. We will announce opportunities for public input in local news media throughout the CCP planning process; see Public Participation under SUPPLEMENTARY INFORMATION.

ADDRESSES: Send your comments or requests for more information by any of the following methods:

Email: william_smith@fws.gov. Include “Grays Lake CCP EA” in the subject line of the message.

Fax: Attn: William Smith, 208-574-2756.

U.S. Mail: Grays Lake NWR, 74 Grays Lake Road, Wayan, ID 83285.

In-Person Drop-off: You may drop off comments during regular business hours at the above address.

FOR FURTHER INFORMATION CONTACT: William Smith, 208-574-2755.

SUPPLEMENTARY INFORMATION:

Introduction

With this notice, we initiate our process for developing a CCP for Grays Lake NWR in Caribou and Bonneville Counties, ID. This notice complies with the National Environmental Policy Act, as amended (NEPA) (42 U.S.C. 4321 et seq.), and our CCP policy to (1) advise other Federal and State agencies, Tribes, and the public of our intention to conduct detailed conservation planning for this refuge, and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Each unit of the NWRS was established for specific purposes. We use these purposes as the foundation for developing and prioritizing the management goals and objectives for each refuge to contribute to the NWRS mission, and to determine how the public can use each refuge. The planning process is a way for us and the public to evaluate management goals and objectives that will ensure the best possible approach to wildlife, plant, and habitat conservation, while providing for wildlife-dependent recreation opportunities that are compatible with the refuge's establishing purposes and the mission of NWRS. Our CCP process provides participation opportunities for Tribal, State, and local governments; agencies; organizations; and the public. At this time we encourage input in the form of issues, concerns, ideas, and suggestions for the future management of Grays Lake NWR.

We will conduct the environmental review of this project and develop an EIS in accordance with the requirements of NEPA; NEPA regulations (40 CFR parts 1500-1508); other appropriate Federal laws and regulations; and our policies and procedures for compliance with those laws and regulations.

Grays Lake National Wildlife Refuge

Grays Lake NWR was established in 1965 and is located in Caribou and Bonneveille Counties, near the community of Wayan, in southeast Idaho. Grays Lake lies within a high mountain valley at approximately 6,400 feet in elevation and at the base of Caribou Mountain. The refuge boundary encompasses approximately 32,800 acres. The area immediately surrounding the refuge is dominated by agricultural uses, principally summer livestock and haying operations.

The refuge purposes are “for use as an inviolate sanctuary, or for any other management purpose, for migratory birds.” 16 U.S.C. 715d (Migratory Bird Conservation Act) “* * * suitable for—(1) Incidental fish and wildlife-oriented recreational development, (2) the protection of natural resources, (3) the conservation of endangered species or threatened species * * *” 16 U.S.C. 460k-1 “* * * the Secretary * * * may accept and use * * * real * * * property. Such acceptance may be accomplished under the terms and conditions of restrictive covenants imposed by donors * * *” 16 U.S.C. 460k-2 (Refuge Recreation Act (16 U.S.C. 460k-460k-4), as amended). “* * * for the development, advancement, management, conservation, and protection of fish and wildlife resources * * *” 16 U.S.C. 742f(a)(4) “* * * for the benefit of the United States Fish and Wildlife Service, in performing its activities and services. Such acceptance may be subject to the terms of any restrictive or affirmative covenant, or condition of servitude ” 16 U.S.C. 742f(b)(1) (Fish and Wildlife Act of 1956).

The refuge is composed of a 21,000-acre hardstem bulrush marsh and 7,000 acres of sedge and rush wet meadows. The remaining habitats are comprised of upland sagebrush, dry grass meadows, willow, and aspen. There are approximately 200 species of wildlife which utilize the refuge during various periods of the year. Approximately 80 species of migratory birds nest at Grays Lake, including the largest breeding concentration of greater sandhill cranes in North America.

Throughout the marsh are a series of canals and drainage ditches, which were constructed to facilitate the withdrawal of water from Grays Lake for the Fort Hall Irrigation Project. This alteration of Grays Lake's natural water levels has gradually changed the extent and composition of the marsh's habitats. Consequently, the marsh is less productive for wildlife than it was in earlier times.

Scoping: Preliminary Issues, Concerns, and Opportunities

We have identified preliminary issues, concerns, and opportunities that we may address in the CCP. We have briefly summarized these issues below. During public scoping, we may identify additional issues.

At Grays Lake NWR, the Service will evaluate the following:

(1) Water management structures, methods, and schedules to improve refuge wildlife habitats and values, while assuring Tribal water rights are preserved in perpetuity;

(2) How the Service can protect and improve the quantity and quality of water for fish and wildlife resources;

(3) Means required to minimize disturbance within the refuge to nesting and migrating waterbirds and wildlife;

(4) How the refuge can meet increasing demands for recreational opportunities and provide quality visitor services programs in consideration of wildlife disturbance issues;

(5) The best means to attain productive deep marsh habitats for refuge wildlife which match or mimic the natural and historic vegetative composition and open water interspersion of the Grays Lake basin;

(6) What can be done to prevent the introduction and dispersal of invasive plants and animals and facilitate their removal from the refuge;

(7) The refuge's role in supporting native fish and riparian habitat restoration;

(8) The restoration of native sagebrush habitats to support the long-term viability of native wildlife populations;

(9) The means to minimize sandhill crane conflicts with small grain farms;

(10) The most appropriate management techniques for the refuge's wet meadow and upland habitats to maximize habitat values for key wildlife species (e.g., sandhill cranes, trumpeter swans, Canada geese) while assuring other native wildlife cover and forage requirements are also satisfied;

(11) How to best address high nest predation rates on the refuge;

(12) How the refuge can best contribute to the conservation of rural character and open space in the Grays Lake basin;

(13) How the refuge can adaptively manage in response to predicted and unpredicted challenges of climate change; and

(14) How the refuge can most appropriately assess the efficacy of management actions at the appropriate spatial and temporal scale.

Public Participation

We will involve the public through open houses, informational and technical meetings, and written comments. We will release mailings, news releases, and announcements to provide information about opportunities for public participation in the planning process.

Public Availability of Comments

Before including your address, phone number, email address, or other personal identifying information in your comment, you should be aware that your entire comment—including your personal identifying information—may be made publicly available at any time. While you can ask us in your comment to withhold your personal identifying information from public review, we cannot guarantee that we will be able to do so.

Dated: May 10, 2012.
Robyn Thorson,
Regional Director, Pacific Region, Portland, Oregon.

[FR Doc. 2012-15330 Filed 6-21-12; 8:45 am]

BILLING CODE 4310-55-P